DEPARTMENT OF HOMELAND SECURITY

Coast Guard

[Docket No. USCG-2015-0673]

Commercial Fishing Safety Advisory Committee

AGENCY: Coast Guard, Department of Homeland Security.

ACTION: Notice of Federal Advisory Committee Meeting.

SUMMARY: The Commercial Fishing Safety Advisory Committee will meet in Seattle, Washington to discuss various issues relating to safety in the commercial fishing industry. This meeting will be open to the public.

DATES: The Committee will meet on Tuesday, September 15 and Wednesday, September 16, 2015, from 8 a.m. to 5:30 p.m. The meeting may close early if all business is finished.

ADDRESSES: The Committee will meet at the United States District Court House located at 700 Stewart Street, Seattle, Washington, Room 19205. http://www.wawd.uscourts.gov/visitors/seattle-courthouse.

If you are planning to attend the meeting, you will be required to pass through a security checkpoint. You will be required to show valid government identification. Please arrive at least 30 minutes before the planned start of the meeting in order to pass through security.

For information on facilities or services for individuals with disabilities or to request special assistance at the meeting, contact the person listed in the FOR FURTHER INFORMATION CONTACT section, as soon as possible.

To facilitate public participation, we are inviting public comment on the issues to be considered by the Committee as listed in the “Agenda” section below. Written comments must be submitted no later than September 4, 2015 if you want Committee members to be able to review your comments before the meeting. Comments must be identified by docket number USCG-2015-0673, and submitted by one of the following methods:

• Federal Electronic Rulemaking Portal: http://www.regulations.gov (preferred method to avoid delays in processing).

• Mail: Docket Management Facility (M-30), United States Department of Transportation, West Building Ground Floor, Room W12-140, 1200 New Jersey Avenue SE., Washington, District of Columbia 20590-0001.

• Facsimile: (202) 493-2251

• Hand Delivery: Same as mail address above, between 9 a.m. and 5 p.m., Monday through Friday, except Federal Holidays. The telephone number is 202-366-9329.

Instructions: All submissions received must include the words “Department of Homeland Security” and docket number for this action. Comments received will be posted without alteration at www.regulations.gov, including any personal information provided. You may review a Privacy Act notice regarding our public dockets in the January 17, 2008 issue of the Federal Register (73 FR 3316).

Docket: For access to the docket to read documents or comments related to this notice, go to http://www.regulations.gov, enter the docket number in the “SEARCH” box, press Enter and then click on the item you wish to view.

Public oral comment periods will be held during the meeting after each presentation and at the end of each day. Speakers are requested to limit their comments to 3 minutes. Please note that the public oral comment periods may end before the prescribed ending time following the last call for comments. Contact Jack Kemerer as indicated below to register as a speaker.

FOR FURTHER INFORMATION CONTACT: Jack Kemerer, Alternate Designated Federal Officer of Commercial Fishing Safety Advisory Committee, Commandant (CG-CVC-3), United States Coast Guard Headquarters, 2703 Martin Luther King Junior Avenue SE., Mail Stop 7501, Washington, DC 20593-7501; telephone 202-372-1249, facsimile 202-372-8376, electronic mail: jack.a.kemerer@uscg.mil. If you have any questions on viewing or submitting material to the docket, call Cheryl Collins, Program Manager, Docket Operations, telephone 202-493-0402 or 1-800-647-5527.

SUPPLEMENTARY INFORMATION: Notice of this meeting is given under the Federal Advisory Committee Act, Title 5 United States Code, Appendix.

The Commercial Fishing Safety Advisory Committee is authorized by Title 46 United States Code Section 4508. The Committee's purpose is to provide advice and recommendations to the United States Coast Guard and the Department of Homeland Security on matters relating to the safety of commercial fishing industry vessels.

A copy of available meeting documentation should be posted to the docket, as noted above, and at http://fishsafe.info/ by August 31, 2015. Post-meeting documentation will be posted to the Web site within 30 days after the meeting, or as soon as possible. Alternatively, you may contact Jack Kemerer as noted in the FOR FURTHER INFORMATION CONTACT section above.

Agenda

The Commercial Fishing Safety Advisory Committee will meet to review, discuss and formulate recommendations on topics contained in the agenda:

Day 1

The meeting will include administrative matters, reports, presentations, discussions, and Subcommittee/working group sessions as follows:

(1) Swearing-in of new members, election of Chair and Vice-Chair, and completion of Department of Homeland Security Form 420 by Special Government Employee members.

(2) Status of Commercial Fishing Vessel Safety Rulemaking projects resulting from requirements set forth in the Coast Guard Authorization Act of 2010 and the Coast Guard and Maritime Transportation Act of 2012.

(3) Coast Guard District Commercial Fishing Vessel Safety Coordinator reports on activities and initiatives.

(4) Industry Representative updates on safety and survival equipment, and classification of fishing vessels.

(5) Presentation and discussion on casualties by regions and fisheries and update on safety and risk reduction-related projects by the National Institute for Occupational Safety and Health.

(6) Presentation and discussion on tonnage and documentation issues.

(7) Subcommittee/working group sessions, as time allows, on (a) standards for alternative safety compliance program(s) development, (b) definitions and safety equipment requirements that should be considered in future rulemaking projects, and (c) requirements of the International Convention on Standards of Training, Certification and Watchkeeping for Fishing Vessel Personnel, 1995.

(8) Public comment period.

(9) Adjournment of meeting.

There will be a comment period for Commercial Fishing Safety Advisory Committee members and a comment period for the public after each presentation and discussion. The Committee will review the information presented on any issues, deliberate on any recommendations presented in Subcommittee reports, and formulate recommendations for the Department's consideration.

Day 2

The meeting will primarily be dedicated to continuing Subcommittee/working group sessions, but will also include:

(1) Reports and recommendations from Subcommittees/working groups to the full committee for discussion, deliberation, and adoption for presentation to the Coast Guard as determined by committee voting. The public will have opportunity to comment on reports and discussions prior to the committee taking action on such reports or recommendations.

(2) Other safety recommendations and safety program strategies from the Committee.

(3) Public comment period.

(4) Future plans and goals for the Committee.

(5) Adjournment of meeting.

Dated: August 5, 2015.
V.B. Gifford,
Captain, U.S. Coast Guard, Director of Inspections and Compliance.

[FR Doc. 2015-20010 Filed 8-13-15; 8:45 am]

BILLING CODE 9110-04-P